DEPARTMENT OF LABOR

Employment and Training Administration

[TA-W-53,505]

Hunt Corportion; Now Known as Elmer's Products, Inc.; Speedball Road Plant; Statesville, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance on December 9, 2003, applicable to workers of Hunt Corporation, Speedball Road Plant, Statesville, North Carolina. The notice was published in the Federal Register on January 16, 2004 (69 FR 2623).

At the request of a petitioner, the Department reviewed the certification for workers of the subject firm. The workers were engaged in the production of office and school supplies.

New information provided by the company shows that Hunt Corporation, Speedball Road Plant, became known as Elmer's Products, Inc., Speedball Road Plant following a merger in late 2004. Workers separated from employment at the subject firm had their wages reported under a separate unemployment insurance (UI) tax accounts for Elmer's Products, Inc., Speedball Road Plant.

Accordingly, the Department is amending this certification to properly reflect this matter.

The intent of the Department's certification is to include all workers of Hunt Corporation, Speedball Road Plant, now known as Elmer's Products, Inc., Speedball Road Plant who was adversely affected by increased company imports.

The amended notice applicable to TA-W-53,505 is hereby issued as follows:

All workers of Hunt Corporation, Speedball Road Plant, now known as Elmer's Products, Inc., Speedball Road Plant, Statesville, North Carolina, who became totally or partially separated from employment on or after November 7, 2002 through December 9, 2005, are eligible to apply for adjustment assistance under Section 223 of the Trade Act of 1974, and are also eligible to apply for alternative trade adjustment assistance under Section 246 of the Trade Act of 1974.

Signed at Washington, DC this 3rd day of February 2006.
Elliott S. Kushner,
Certifying Officer, Division of Trade Adjustment Assistance.

[FR Doc. E6-1909 Filed 2-9-06; 8:45 am]

BILLING CODE 4510-30-P